DEPARTMENT OF COMMERCE

National Oceanic and Atmospheric Administration

[RTID 0648-XA406]

Aquaculture Opportunity Areas

AGENCY: National Marine Fisheries Service (NMFS), National Oceanic and Atmospheric Administration (NOAA), Commerce.

ACTION: Notice; request for information.

SUMMARY: On May 7, 2020, the White House issued an Executive Order (E.O.) on Promoting American Seafood Competitiveness and Economic Growth, which requires the Secretary of Commerce to identify geographic areas containing locations suitable for commercial aquaculture, and complete a National Environmental Policy Act (NEPA) Programmatic Environmental Impact Statement (PEIS) for each area to assess the impact of siting aquaculture facilities there. NOAA requests that interested parties provide relevant information on the identification of areas within Federal waters of the Gulf of Mexico and off Southern California, south of Point Conception, for the first two Aquaculture Opportunity Areas (AOA) and on what areas NOAA should consider nationally for future AOAs. Please respond to the questions listed in the SUPPLEMENTARY INFORMATION section, as appropriate. The public input provided in response to this request for information (RFI) will inform NOAA as it works with Federal agencies, appropriate Regional Fishery Management Councils, and in coordination with appropriate State and tribal governments to identify AOAs.

DATES: Interested persons are invited to submit written comments on or before December 22, 2020.

Four webinar-based listening sessions are scheduled. Each will focus on a specific region or national comments, but comments on each topic will be accepted at all meetings:

1. November 5, 2020, 6 p.m. to 8 p.m. Eastern: National listening session.

2. November 12, 2020, 9 a.m. to 11 a.m. Pacific: Southern California listening session.

3. November 17, 2020, 1 p.m. to 3 p.m. Eastern: Gulf of Mexico listening session.

4. November 19, 2020, 1 p.m. to 3 p.m. Eastern: National listening session.

ADDRESSES: You may submit comments, identified by NOAA-NMFS-2020-0118, by the following method:

Electronic Submission: Submit all electronic public comments via the Federal e-Rulemaking Portal. Go to www.regulations.gov/#!docketDetail;D=NOAA-NMFS-2020-0118, click the “Comment Now!” icon, complete the required fields, and enter or attach your comments.

Webinar links: Links and toll-free phone numbers for each webinar can be found at: https://www.fisheries.noaa.gov/aquaculture-opportunity-areas.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Please note that the U.S. Government will not pay for response preparation, or for the use of any information contained in the response.

If you are unable to provide electronic comments, please contact: Kristy Beard, 301-427-8333 or nmfs.aquaculture.info@noaa.gov.

FOR FURTHER INFORMATION CONTACT: Kristy Beard, 301-427-8333 or nmfs.aquaculture.info@noaa.gov.

SUPPLEMENTARY INFORMATION: On May 7, 2020, the President signed a new E.O. on Promoting American Seafood Competitiveness and Economic Growth (E.O. 13921). The E.O. calls for the expansion of sustainable U.S. seafood production. NOAA also has directives to promote sustainable aquaculture in the U.S. through the National Aquaculture Act of 1980 and the NOAA Marine Aquaculture Policy. NOAA has a variety of proven science-based tools and strategies that can support these directives and help communities thoughtfully consider how and where to sustainably develop offshore aquaculture that will complement wild-capture fisheries, working waterfronts, and our nation's seafood processing and distribution infrastructure.

Section 7 of the E.O. directs the Secretary of Commerce to identify AOAs in consultation with the Secretary of Defense, the Secretary of the Interior, the Secretary of Agriculture, the Secretary of Homeland Security, the Administrator of the Environmental Protection Agency, other appropriate Federal officials, and appropriate Regional Fishery Management Councils, and in coordination with appropriate State and tribal governments. This includes:

1. Within 1 year of the E.O., identify at least two geographic areas containing locations suitable for commercial aquaculture;

2. Within 2 years of identifying each area, complete a NEPA PEIS for each area to assess the impact of siting aquaculture facilities there;

3. For each of the following 4 years, identify two additional geographic areas containing locations suitable for commercial aquaculture and complete a PEIS for each within 2 years.

These geographic areas will be referred to as AOAs once the PEIS is complete. Identifying AOAs is an opportunity to use the best available science on sustainable aquaculture management, and support the “triple bottom line” of environmental, economic, and social sustainability. This approach has been refined and utilized widely within states and by other countries with robust, sustainable aquaculture sectors. The 3-year process to identify and complete a PEIS for each AOA will result in the identification of a geographic area that, through scientific analysis and public engagement, is determined to be environmentally, socially, and economically suitable for aquaculture. The areas identified as AOAs will have characteristics that are expected to be able to support multiple aquaculture farm sites of varying types, but all portions of the AOA may not be appropriate for aquaculture or for all types of aquaculture. Through spatial modeling, NOAA expects to identify areas that may support approximately three to five aquaculture operations in each of the first two AOAs. The most suitable locations for aquaculture operations within an AOA would be considered through the PEIS, and locations for individual operations would be considered during the required permitting process and associated environmental consultations.

To identify the first two geographic areas containing locations suitable for commercial aquaculture within one year of the Executive Order, NOAA will focus on Federal waters of the Gulf of Mexico and Southern California, south of Point Conception, because there is existing spatial analysis data and current industry interest in developing sustainable aquaculture operations in these regions. NOAA will further narrow those areas using a combination of spatial mapping approaches, scientific review, and public input. NOAA's National Centers for Coastal Ocean Science will use the best available data to account for key environmental, economic, social, and cultural considerations to identify areas that may support sustainable aquaculture development. NOAA will then combine those results with input from other Federal agencies, Fishery Management Councils, Marine Fisheries Commissions, states and tribes, and the general public to identify the first two geographic areas that will be considered in more depth through the PEIS. Public input on identification of geographic areas will be gathered through this RFI; additional opportunities for input will be provided during the PEIS process for each area.

NOAA may use the information received through this RFI in the NEPA PEIS process. The information could inform the development of potential NEPA alternatives, such as different locations, different aquaculture types in each location (e.g., finfish in one location, shellfish in another location), and different configurations of farm locations and aquaculture types. NOAA expects to publish a notice of intent (NOI) to prepare a PEIS for each of the first two AOAs in the Gulf of Mexico and Southern California after identifying at least two geographic areas containing locations suitable for commercial aquaculture. Public notices announcing the NOI and announcing the availability of a draft PEIS will provide future opportunities for public comment on the first two AOAs.

NOAA is also requesting public input on what areas should be considered nationally for future AOAs. NOAA will use the information received from this RFI to help determine where to focus efforts for future AOAs. NOAA expects to continue providing opportunities for public comment until all 10 AOAs have been identified over the next 5 years.

Aquaculture operations proposed within an AOA would have the same Federal and state permitting and authorization requirements as anywhere else and would be required to comply with all applicable Federal and state laws and regulations. Site-specific environmental surveys may be required for the permitting process. Additional NEPA analysis beyond the PEIS for the AOA(s) may be necessary as a part of permitting and authorization processes for individual operations. NOAA will work with the Federal agencies responsible for permitting offshore aquaculture (e.g., the U.S. Army Corps of Engineers and the Environmental Protection Agency) throughout the AOA identification process to identify information NOAA can include in the PEIS to help inform future permitting needs.

Additional information on AOAs, including frequently asked questions, is available on NOAA's website at: https://www.fisheries.noaa.gov/insight/aquaculture-opportunity-areas.

Questions To Inform the Identification of the First Two AOAs, in the Gulf of Mexico and Southern California, and Locations for Future AOAs, Nationally

Through this RFI, NOAA (we) seeks written public input on the identification of the first two AOAs. NOAA announced in August 2020 that the first two AOAs would be in Federal waters (i.e., U.S. Exclusive Economic Zone) of the Gulf of Mexico and Southern California; the comments received through this RFI will help us identify specific locations within those regions which we will consider in more depth through the PEIS process. There will be additional opportunities for public comment during the PEIS process.

We also seek public input on what regions of the country should be considered as we go through the process to identify two more geographic areas per year, for a total of 10 by 2025.

When providing input, please specify:

• The question number(s) you are responding to;

• Whether your comments apply to the Gulf of Mexico, Southern California, or other U.S. regions/areas; and

• Whether your comments apply to specific type(s) of offshore aquaculture (finfish, macroalgae, shellfish, or a combination of species).

Input Requested To Inform the Identification of AOAs in Federal Waters of the Gulf of Mexico and Southern California

1. With input from industry and based on previous permit applications, we have identified the water depths and maximum distances from shore (see a. and b. below) that we expect to support aquaculture within Federal waters (i.e., U.S. Exclusive Economic Zone) of the Gulf of Mexico and Southern California as starting points for the process of identifying AOAs. Are there types of offshore aquaculture that these areas may or may not support, or are there other water depths and maximum distances from shore that should be considered, and why?

a. In the Gulf of Mexico, we are looking at areas that:

i. Are within the depth range of 50 to 150 meters.

ii. Do not have a specified maximum distance from shore.

b. In Southern California, we are looking at areas that:

i. Are within the depth range of 10 to 150 meters.

ii. Are a maximum distance of 25 nautical miles from shore.

2. Are there specific locations or habitats within Federal waters of the Gulf of Mexico or Southern California that should be considered for AOAs? Are there specific locations that should be avoided? Please be as specific as possible and include latitude and longitude or defining landmarks. Please indicate why such areas should be considered or avoided, for example, favorable biological parameters, water quality (e.g., nutrients or other constituents that might make an area favorable), proximity to infrastructure (e.g., ports, processing plants, hatcheries or nurseries that could supply fingerlings for grow-out), relationship to other planned initiatives, etc.

3. Are there specific locations within Federal waters of the Gulf of Mexico or Southern California where the presence of aquaculture gear may overlap with areas utilized by protected species (e.g., large whales, sea turtles, dolphins, etc.)?

4. Are there specific locations within Federal waters of the Gulf of Mexico or Southern California that should be avoided because of concerns about harmful algal blooms (HABs) or impaired water quality? Please specify whether these concerns are related to: (a) Aquaculture activities being impacted by HABs and impaired water quality, or (b) aquaculture activities contributing to HABs and impaired water quality?

5. Is there ongoing environmental, economic, or social science research that would assist in the identification and implementation of AOAs in Federal waters of the Gulf of Mexico or Southern California? If so, please describe in as much detail as is available.

6. Is there information that may not be readily available or accessible online that would be useful for AOA planning processes in Federal waters of the Gulf of Mexico and Southern California? This includes spatial data or geographic information system (GIS) layers representing environmental and socioeconomic considerations, or a point of contact for these data, for the following categories:

—Biophysical/oceanographic (wave climate, currents, bathymetry)

—Natural resources (minerals, energy resources, fishes and aquatic organisms, protected species and habitats, coral reefs, biodiversity)

—Social and cultural resources

—Government boundaries

—Industry (fishing, energy production, transportation, communication cables)

—Military

—Navigation

Input Requested To Inform the Identification of Future AOAs, Nationally

7. What regions of the country should be considered for future AOAs?

a. New England (Maine through Connecticut)

b. Mid-Atlantic (New York through Virginia)

c. South Atlantic (North Carolina through east coast Florida)

d. U.S. Caribbean (Puerto Rico and U.S. Virgin Islands)

e. Gulf of Mexico (west coast Florida through Texas)

f. Alaska

g. Washington through California

h. Hawai'i, American Samoa, Guam, the Commonwealth of the Northern Mariana Islands, and U.S. Pacific Remote Island Areas

8. Are there specific locations within those regions identified in response to #7 that should be considered for future AOAs? Please be as specific as possible and include latitude and longitude or defining landmarks. Please indicate why these areas are of interest, including favorable biological parameters, water quality (e.g., nutrients or other constituents that might make an area favorable), proximity to infrastructure (e.g., ports, processing plants, hatcheries or nurseries that could supply fingerlings for grow-out), relationship to other planned initiatives, etc.

9. Within those regions identified in response to #7, what resource use conflicts should we consider as we identify future AOAs? Please describe specific considerations that might make an area unfavorable, including ongoing or planned activities or ocean uses.

10. Is there ongoing environmental, economic, or social science research that would assist in the identification and implementation of future AOAs? If so, please describe in as much detail as is available.

11. We are soliciting information on siting requirements for aquaculture operations to inform spatial analysis for future AOAs. For the region(s) identified in response to #7, please provide:

a. Minimum and maximum depth needed to operate aquaculture farms.

b. Minimum and maximum current conditions that could impact farm operation.

c. Minimum and maximum wave climate that could impact farm operation.

d. Proximity to shore.

12. If states express interest in developing offshore aquaculture, should we also consider state waters as areas for future AOAs?

(Authority: E.O. 13921)

Dated: October 19, 2020.
Danielle Blacklock,
Director, Office of Aquaculture, National Marine Fisheries Service, National Oceanic and Atmospheric Administration.

[FR Doc. 2020-23487 Filed 10-22-20; 8:45 am]

BILLING CODE 3510-22-P